DEPARTMENT OF COMMERCE

National Oceanic and Atmospheric Administration

50 CFR Part 697

[Docket No. 000824246-0288-02; I.D. 062700F]

RIN 0648-AO33

Horseshoe Crab; Interstate Fishery Management Plans

AGENCY: National Marine Fisheries Service (NMFS), National Oceanic and Atmospheric Administration (NOAA), Commerce.

ACTION: Stay of declaration of moratorium and interim final rule.

SUMMARY: NMFS stays a moratorium and an interim final rule from October 23, 2000, through October 27, 2000. This action is being taken to allow time for Virginia to issue regulations to comply with Addendum 1 to the Interstate Fishery Management Plan for Horseshoe Crabs (Horseshoe Crab Plan), for the Atlantic States Marine Fisheries Commission to determine whether Virginia is in compliance, and for the Secretary of Commerce (Secretary) to remove the moratorium and associated regulations if he concurs with the Commission's determination.

DATES: Effective October 23, 2000, the moratorium and the amendments to 50 CFR 697.2 and 697.7 published on October 16, 2000 at 65 FR 61116 are stayed through October 27, 2000.

FOR FURTHER INFORMATION CONTACT: Paul Peria, 301-427-2014.

SUPPLEMENTARY INFORMATION: On October 16, 2000 (65 FR 61116), NMFS declared a Federal moratorium on fishing for horseshoes crabs in Virginia waters and issued regulations prohibiting the possession of horseshoe crabs in Virginia waters and the landing of horseshoes crabs in Virginia, regardless of where they were caught, effective October 23, 2000. the moratorium and regulations would remain in effect until the Secretary finds Virginia in compliance with Addendum 1.

On Tuesday, October 17, 2000, the Virginia Marine Resources Commission announced its intention to bring Virginia into compliance with the Horseshoe Crab Plan by implementing regulations by October 24, 2000, that would reduce Virginia's horseshoe crab landing limit to 152,495 horseshoe crabs, the amount allocated to it under Addendum 1. The Atlantic States Marine Fisheries Commission has stated that it will review Virginia's new regulation immediately and will withdraw its determination of non-compliance if it finds Virginia has taken the necessary steps to comply with Addendum 1. If the Secretary determines that Virginia is in compliance with Addendum 1, then he would remove the moratorium and associated regulations.

Because Virgnina hsa agreed to comply with Addendum 1 by issuing the necessary regulations by October 24, 2000, the Secretary is staying the moratorium and interim final rule through October 27, 2000, to allow time for Virginia to take such action, for the Atlantic States Marine Fisheries Commission and Secretary to review it, and for the Secretary to remove the moratorium and interim final rule, if appropriate.

Dated: October 20, 2000.
Craig O'Connor,
Acting General Counsel.

[FR Doc. 00-27450 Filed 10-20-00; 3:58 pm]

BILLING CODE 3510-22-M